FEDERAL ELECTION COMMISSION

Sunshine Act Notice; Correction

Previously Announced Date and Time: Thursday, December 18, 2002, 10 a.m.—

Open Meeting Will be Held on Wednesday, December 18, 2002.

Date and Time: Wednesday, December 18, 2002 at 10 a.m.

Place: 999 E. Street, NW., Washington, DC (Ninth Floor).

Status: This meeting will be open to the public.

Items to be Discussed: Correction and Approval of Minutes.

Election of Officers.

Interim Rules and Explanation and Justification for BCRA's Millionaire's Amendment.

Administrative Matters.

PERSON TO CONTACT FOR INFORMATION: Mr. Ron Harris, Press Officer, Telephone: (202) 694-1220.

Mary W. Dove,
Secretary of the Commission.

[FR Doc. 02-31971 Filed 12-16-02; 1:26 pm]

BILLING CODE 6715-01-M